DEPARTMENT OF THE TREASURY

Office of Foreign Assets Control

Proposed Collection; Comment Request for Providers of Travel and Carrier Services Submission

AGENCY: Office of Foreign Assets Control, Treasury.

ACTION: Notice and request for comments.

SUMMARY: The Department of the Treasury, as part of its continuing effort to reduce paperwork and respondent burden, invites the general public and other federal agencies to comment on proposed and/or continuing information collections, as required by the Paperwork Reduction Act of 1995, Public Law 104-13 (44 U.S.C. 3506(c)(2)(A)). Currently, the Office of Foreign Assets Control (OFAC) within the Department of the Treasury is soliciting comments concerning information collection requirements for OFAC's Provider of Travel and Carrier Services information collection, which are contained within the Cuban Assets Control Regulations set forth at 31 CFR part 515.

DATES: Written comments must be submitted on or before May 2, 2016 to be assured of consideration.

ADDRESSES: You may submit comments by any of the following methods:

Federal eRulemaking Portal: www.regulations.gov. Follow the instructions on the Web site for submitting comments.

Fax: Attn: Request for Comments (Persons Providing Travel and Carrier Services to Cuba) 202-622-1657.

Mail: Attn: Request for Comments (Persons Providing Travel and Carrier Services to Cuba), Office of Foreign Assets Control, Department of the Treasury, 1500 Pennsylvania Avenue NW., Washington, DC 20220.

Instructions: All submissions received must include the agency name and the Federal Register Doc. number that appears at the end of this document. Comments received will be made available to the public via regulations.gov or upon request, without change and including any personal information provided.

FOR FURTHER INFORMATION CONTACT: The Department of the Treasury's Office of Foreign Assets Control: Assistant Director for Licensing, tel.: 202-622-2480, Assistant Director for Regulatory Affairs, tel.: 202-622-4855, Assistant Director for Sanctions Compliance & Evaluation, tel.: 202-622-2490; or the Department of the Treasury's Office of the Chief Counsel (Foreign Assets Control), Office of the General Counsel, tel.: 202-622-2410.

SUPPLEMENTARY INFORMATION:

Title: Persons Providing Travel and Carrier Services Submission.

OMB Number: 1505-0168.

Abstract: The information is required of persons subject to the jurisdiction of the United States who have been authorized by OFAC to provide travel and carrier services in connection with travel-related transactions involving Cuba pursuant to the general licenses in section 515.572 of the Cuban Assets Control Regulations, 31 CFR part 515 (CACR). Persons providing services authorized pursuant to 31 CFR 515.572 are required to retain for at least five years from the date of the transaction certain documentation from customers indicating the source of their authorization to travel to Cuba, which must be furnished to OFAC on demand.

Current Actions: As a result of policy changes, which were implemented in regulatory changes published by OFAC on January 16, 2015 (80 FR 2291), September 21, 2015 (80 FR 56915), and January 27, 2016 (81 FR 4583), OFAC modified the information collection requirements on persons providing travel and carrier services for the collection of that information as previously approved by the Office of Management and Budget (OMB) (No. 1505-0168). As to information collection requirements, OFAC previously required licensed Travel Service Providers to gather certain personal data about authorized travelers and provide it to licensed Carrier Service Providers, which then submitted this and certain other information to OFAC. OFAC now requires only that persons subject to U.S. jurisdiction providing services authorized pursuant to 31 CFR 515.572 retain for at least five years from the date of the transaction a certification from each customer indicating the section of the CACR that authorizes the person to travel to Cuba. In the case of a customer traveling under a specific license, a copy of the license must be maintained on file with the person subject to U.S. jurisdiction providing services authorized pursuant to 31 CFR 515.572. These records must be furnished to OFAC on demand.

Type of Review: Revision of a currently approved collection.

Affected Public: Individuals, households, businesses, banking institutions.

Estimated Number of Respondents: 1,750,000.

Estimated Time per Respondent: 1 minute.

Estimated Total Annual Burden Hours: 29,167.

The following paragraph applies to all of the collections of information covered by this notice:

An agency may not conduct or sponsor, and a person is not required to respond to, a collection of information unless the collection of information displays a valid OMB control number. Books or records relating to a collection of information must be retained for five years.

Request for Comments

Comments submitted in response to this notice will be summarized and/or included in the request for OMB approval. All comments will become a matter of public record. Comments are invited on: (a) Whether the collection of information is necessary for the proper performance of the functions of the agency, including whether the information has practical utility; (b) the accuracy of the agency's estimate of the burden of the collection of information, including the validity of the methodology and assumptions used; (c) ways to enhance the quality, utility, and clarity of the information to be collected; (d) ways to minimize the burden of the collection of information on respondents, including through the use of automated collection techniques or other forms of information technology; and (e) estimates of capital or start-up costs and costs of operation, maintenance, and purchase of services to provide information.

John E. Smith,
Acting Director, Office of Foreign Assets Control.

[FR Doc. 2016-04356 Filed 2-29-16; 8:45 am]

BILLING CODE 4810-AL-P